DEPARTMENT OF COMMERCE

International Trade Administration

Applications for Duty-Free Entry of Scientific Instruments

Pursuant to Section 6(c) of the Educational, Scientific and, Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-037. Applicant: California Institute of Technology, 1200 E. California Blvd., Pasadena, CA 91125. Instrument: Dual Beam SEM/FIB System, Model 200 Nanolab. Manufacturer: FEI Company, The Netherlands. Intended Use: The instrument is intended to be used to modify and analyze delicate nano-devices as well as to prepare more conventional cross-sectional thin sections for analytical electron microscopy. The nanostructures to be modified will largely be developed within Caltech's microfabrication facilitiesand the delivered software system will be re-written to enable more precise patterning and alignment of nanostructures. Metallorganic gases can be delivered to the sample surface through a gas manifold for metal deposition and etching gases can be injected to perform chemically-assisted focused ion etching. A laser interferometer stage will enable the alignment of nanostructures to existing alignment marks for a flexible nanofabrication system. A large variety of chemical analysis sensors will further extend the capabilities of the system.Application accepted by Commissioner of Customs: September 27, 2005.

Docket Number: 05-044. Applicant: Tufts University, 169 Holland Street, Somerville, MA 02144. Instrument: Low-temperature Scanning Tunneling Microscope. Manufacturer: Omicron Nanotechnology, Germany. Intended Use: The instrument is intended to be used to study molecules adsorbed on metal and semiconductor surfaces at low temperature to gain understanding of the physisorption and chemisorption processes. The research is intended to: (1) obtain high-resolution images of molecules adsorbed on surfaces at temperatures down to 4 Kelvin, (2) record conductance and vibrational data from these systems using the microscope's spectroscopic capabilities and (3) manipulate the positions of molecules using the microscope tip. Application accepted by Commissioner of Customs: October 5, 2005.

Gerald A. Zerdy,
Program Manager Statutory Import Programs Staff.

[FR Doc. E5-5896 Filed 10-24-05; 8:45 am]

BILLING CODE 3510-DS-S